NUCLEAR REGULATORY COMMISSION

[NRC-2019-0226]

Agency Action Regarding the Exploratory Process for the Development of an Advanced Nuclear Reactor Generic Environmental Impact Statement

AGENCY: Nuclear Regulatory Commission.

ACTION: Gather information that would be used to determine whether to prepare a Generic Environmental impact statement for the construction and operation of advanced nuclear reactors.

SUMMARY: The U.S. Nuclear Regulatory Commission (NRC) is conducting an exploratory process to gather information on potential environmental impacts resulting from the construction and operation of advanced nuclear reactors. The NRC is planning to conduct two public meetings and a workshop to explore the interaction of various advanced nuclear reactor designs with the environment. NRC intends to gather information that will inform its decision on whether to proceed with the development of a generic environmental impact statement for the construction and operation of advanced nuclear reactors (ANR GEIS). The intent of an ANR GEIS is to improve the efficiency of the environmental review process.

DATES: The NRC intends to hold two public meeting in November of 2019 to solicitate public input regarding the development of an ANR GEIS. The NRC anticipates that the public workshop would occur during the month of December 2019.

ADDRESSES: You may submit comments by any of the following methods:

• Federal Rulemaking Website: Go to https://www.regulations.gov and search for Docket ID NRC-2019-0226. Address questions about NRC dockets IDs in Regulations.gov to Jennifer Borges; telephone: 301-287-9127; email: Jennifer.Borges@nrc.gov. For technical questions, contact the individual listed in the FOR FURTHER INFORMATION CONTACT section of this document.

• Email comments to: AdvancedReactors-GEIS.resource@nrc.gov.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Jack Cushing, Office of Nuclear Material Safety and Safeguards, U.S. Nuclear Regulatory Commission, Washington, DC 20555-0001; telephone: 301-415-1424, and email: Jack.Cushing@nrc.gov. Mallecia Sutton, Nuclear Reactor Regulation, U.S. Nuclear Regulatory Commission, Washington, DC 20555-0001; telephone: 301-415-0673, and email: Mallecia.Sutton@nrc.gov.

SUPPLEMENTARY INFORMATION:

I. Obtaining Information and Submitting Comments

A. Obtaining Information

Please refer to Docket ID NRC-2019-0226 when contacting the NRC about the availability of information for this action. You may obtain publicly-available information related to this action by any of the following methods:

• Federal Rulemaking Website: Go to https://www.regulations.gov and search for Docket ID NRC-2019-0226.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov.

• NRC's PDR: You may examine and purchase copies of public documents at the NRC's PDR, Room O1-F21, One White Flint North, 11555 Rockville Pike, Rockville, Maryland 20852.

B. Submitting Comments

Please include Docket ID NRC-2019-0226 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

The NRC is soliciting input from stakeholders regarding the development of an ANR GEIS for the construction and operation of advanced nuclear reactors. The NRC will hold two public meetings during the month of November 2019 and a workshop in December 2019 to discuss stakeholder input. The NRC expects to gather input from stakeholders until December 31, 2019.

If developed, an ANR GEIS would streamline the environmental review process for advanced nuclear reactor environmental reviews. The ANR GEIS would also determine which environmental impacts would result in essentially the same (generic) impact for various types of advanced nuclear power plants and which ones could result in different levels of environmental impacts requiring a plant-specific analysis. Environmental reviews for advanced nuclear reactor licenses would incorporate the ANR GEIS by reference and provide site-specific information in a supplemental Environmental Impact Statement, thereby streamlining the environmental review process.

The input received in the public meetings will inform the NRC on whether to prepare an ANR GEIS. If, after gathering stakeholder input, the NRC has sufficient information to begin development of a GEIS, the staff will begin the scoping process and develop a schedule for completion of an ANR GEIS at that time.

III. Request for Information

This notice informs the public of the NRC's intention to gather input from stakeholders to assess whether to proceed with the development of an ANR GEIS.

The NRC will need to:

a. Seek and obtain input from stakeholders on whether an ANR GEIS would improve the efficiency of the environmental review process, where the advanced nuclear reactors would be located, the types of technologies that would be involved, and which environmental impacts should be addressed in the ANR GEIS;

b. Assess whether an ANR GEIS could avoid duplication of effort and focus the review on important environmental issues; and

c. Investigate how an ANR GEIS can align with the goals and best practices of Federal government efforts to streamline the National Environmental Policy Act processes.

Below are specific questions that the NRC is seeking stakeholder feedback on:

a. Should the scope of the ANR GEIS include reactors regardless of technology or be limited to specific reactor technologies?

b. What reactor sizes (footprint) and power levels should the NRC include in the scope the ANR GEIS?

c. One possible option NRC is considering is limiting the ANR GEIS to certain regions with common environmental conditions. Should the NRC consider the geographical site of a reactor when developing the scope of the ANR GEIS? Should the NRC consider a set of bounding plant parameters when developing the scope of the ANR GEIS? If so, what parameters should be considered?

IV. Public Meetings and Workshop

The NRC will hold two Category 2 public meetings to solicitate information regarding development of an ANR GEIS. The two meetings will be held in November 2019 and the workshop will be held in December 2019. The meeting dates and locations will be posted on the NRC's public website at https://www.nrc.gov/pmns/mtg. The public is invited to discuss regulatory issues with the agency at designated points that will be identified on the agenda. The NRC's Policy Statement, “Enhancing Public Participation on NRC Meetings,” effective May 28, 2002 (67 FR 36920), applies to this meeting. The policy statement may be found electronically under the NRC's public website (https://www.nrc.gov/reading-rm/doc-collections/commission/policy/67fr36920.html), and contains information regarding visitors and security.

The NRC provides reasonable accommodation to individuals with disabilities where appropriate. If you need a reasonable accommodation to participate in this meeting or need the meeting notice or the transcript or other information from the meeting in another format (e.g., Braille, large print), please notify the NRC's meeting contact. Determinations on requests for reasonable accommodation will be made on a case-by-case basis.

V. Procedural Requirements

Paperwork Reduction Act Statement

This Federal Register Notice does not contain new or amended information collection requirements that are subject to the Paperwork Reduction Act of 1995 (44 U.S.C. 3501 et seq.). Existing information collection requirements were approved by the Office of Management and Budget (OMB), approval number 3150-0021.

Public Protection Notification

The NRC may not conduct or sponsor, and a person is not required to respond to, a collection of information unless the document requesting or requiring the collection displays a currently valid OMB control number.

Dated at Rockville, Maryland, this 12th day of November 2019.
For the Nuclear Regulatory Commission.
John R. Tappert,
Director, Division of Rulemaking, Environmental, and Financial Support, Office of Nuclear Material Safety and Safeguards.

[FR Doc. 2019-24792 Filed 11-14-19; 8:45 am]

BILLING CODE 7590-01-P